FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 16, 2021.

A. Federal Reserve Bank of Minneapolis (Chris P. Wangen, Assistant Vice President), 90 Hennepin Avenue, Minneapolis, Minnesota 55480-0291:

1. The Elizabeth King Bach Trust, E.L. King Jr. Marital Trust fbo E.L. King III, E.L. King Jr. Marital Trust fbo Elizabeth King Bach, E.L. King, Jr. Generation Skip Trust fbo E.L. King III, and E.L. King, Jr. Generation Skip Trust fbo Elizabeth King Bach, all of Winona, Minnesota; and WNB Financial, National Association, Winona, Minnesota, and Kent Gernander, Rushford, Minnesota, as co-trustees to the aforementioned trusts. Additionally, the David King Marital Trust, Winona, Minnesota, WNB Financial, National Association, as trustee, and Kent Gernander with proxy power to vote; to become members of the Gernander group, a group acting in concert, to retain voting shares of WNB Holding Company, and thereby indirectly retain voting shares WNB Financial, National Association, both of Winona, Minnesota.

2. Daniel King, North Plains, Oregon; Sarah King, Henderson, Nevada; Heather Bach, LaCrosse, Wisconsin; Nicolle Jensen, Santa Fe, New Mexico; Sarah Bach-Lumsden, the Frederick R. King Marital Trust U/W, the Frederick R. King Family Trust U/W, and WNB Financial, National Association and Elizabeth King Bach, as co-trustees of both trusts, all of Winona, Minnesota; to become members of the King group, a group acting in concert, to retain voting shares of WNB Holding Company, and thereby indirectly retain voting shares of WNB Financial, National Association, both of Winona, Minnesota.

Board of Governors of the Federal Reserve System, May 26, 2021.
Michele Taylor Fennell,
Deputy Associate Secretary of the Board.

[FR Doc. 2021-11482 Filed 5-28-21; 8:45 am]

BILLING CODE P